FARM CREDIT SYSTEM INSURANCE CORPORATION

Farm Credit System Insurance Corporation Board; Regular Meeting

AGENCY: Farm Credit System Insurance Corporation.

SUMMARY: Notice is hereby given of the regular meeting of the Farm Credit System Insurance Corporation Board (Board).

DATE AND TIME: The meeting of the Board will be held at the offices of the Farm Credit Administration in McLean, Virginia, on December 13, 2012, from 1:00 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Open Session

A. Approval of Minutes

• September 13, 2012

B. Business Reports

• September 30, 2012 Financial Reports

• Report on Insured and Other Obligations

• Quarterly Report on Annual Performance Plan

Closed Session

• Confidential Report on System Performance

• Audit Plan for the Year Ended December 31, 2012

Executive Session

• Executive Session of the FCSIC Board Audit Committee with the External Auditor

Dated: December 7, 2012.
Dale L. Aultman,
Secretary, Farm Credit System Insurance Corporation Board.

[FR Doc. 2012-30035 Filed 12-12-12; 8:45 am]

BILLING CODE 6710-01-P